ENVIRONMENTAL PROTECTION AGENCY

40 CFR Part 52

[EPA-R07-OAR-2016-0280; FRL-9947-81-Region 7]

Approval of Iowa's State Implementation Plan (SIP); Definition of Greenhouse Gas and Prevention of Significant Deterioration (PSD) Plantwide Applicability Limits (PALs) Revisions

AGENCY: Environmental Protection Agency (EPA).

ACTION: Direct final rule.

SUMMARY: The Environmental Protection Agency (EPA) is approving two SIP revisions submitted by the State of Iowa. First, EPA is approving the definition of greenhouse gas, which will make the state's definition consistent with the Federal definition, and add greenhouse gases to emission inventory requirements. Second, EPA is approving Iowa's revision to its Prevention of Significant Deterioration (PSD) program, specifically to the definition of “subject to regulation,” and to adopt by reference the most recent Federal plantwide applicability limitations (PALs) provisions.

DATES: This direct final rule is effective August 16, 2016, without further notice, unless EPA receives adverse comment by July 18, 2016. If EPA receives adverse comment, we will publish a timely withdrawal of the direct final rule in the Federal Register informing the public that the rule will not take effect.

ADDRESSES: Submit your comments, identified by Docket ID No. EPA-R07-OAR-2016-0280, to http://www.regulations.gov. Follow the online instructions for submitting comments. Once submitted, comments cannot be edited or removed from Regulations.gov. EPA may publish any comment received to its public docket. Do not submit electronically any information you consider to be Confidential Business Information (CBI) or other information whose disclosure is restricted by statute. Multimedia submissions (audio, video, etc.) must be accompanied by a written comment. The written comment is considered the official comment and should include discussion of all points you wish to make. EPA will generally not consider comments or comment contents located outside of the primary submission (i.e. on the web, cloud, or other file sharing system). For additional submission methods, the full EPA public comment policy, information about CBI or multimedia submissions, and general guidance on making effective comments, please visit http://www2.epa.gov/dockets/commenting-epa-dockets.

FOR FURTHER INFORMATION CONTACT: Heather Hamilton, Environmental Protection Agency, Air Planning and Development Branch, 11201 Renner Boulevard, Lenexa, Kansas 66219 at 913-551-7039, or by email at Hamilton.heather@epa.gov.

SUPPLEMENTARY INFORMATION: Throughout this document “we,” “us,” or “our” refers to EPA.

I. What is being addressed in this document?

II. Have the requirements for approval of a SIP revision been met?

III. What action is EPA taking?

I. What is being addressed in this document?

EPA is approving into the Iowa SIP the definition of greenhouse gas which is consistent with the Federal definition, and approving the requirement for facilities to include greenhouse gases in the emissions inventory. On November 4, 2008, Iowa submitted a SIP revision to EPA for several administrative revisions, including the request to amend the definition of greenhouse gas, and to include greenhouse gases for the purposes of emissions inventories. On December 9, 2009 (74 FR 68692), EPA approved many portions of the SIP revisions, but we did not act on either of these particular provisions.

EPA is also approving revisions to the Iowa Prevention of Significant Deterioration (PSD) program rules to revise the definition of “subject to regulation,” by citing the most recent Federal reference to the greenhouse gas definition, and adding a sentence to clarify that the stationary source shall not be subject to regulation if the total sourcewide emissions are below the greenhouse gas plantwide applicability limitations (PALs) and meet the requirements in Iowa Administrative Code (IAC) 567-33.9(455B) (also being revised with this action), and the source complies with the PALs permit containing the greenhouse gases PALs.

IAC 567-33.9(455B), “Plantwide Applicability Limitations,” is being revised to adopt by reference to cite the Federal regulations as of July 12, 2012, except that the term “Administrator” will mean “the department of natural resources.”

Additional information for this rulemaking can be found in the Technical Support Document located in this docket.

II. Have the requirements for approval of a SIP revision been met?

The state submission has met the public notice requirements for SIP submissions in accordance with 40 CFR 51.102. Public hearings were conducted for each of the submissions and no comments were received. The submission also satisfied the completeness criteria of 40 CFR part 51, appendix V. In addition, as explained in the Technical Support Document which is part of this docket, the revision meets the substantive SIP requirements of the CAA, including section 110 and implementing regulations.

III. What action is EPA taking?

With this direct final action, the greenhouse gas definition is being added to the Iowa SIP as it is consistent with the Federal definition. Greenhouse gases are also included as applied to emissions inventories.

EPA is also approving into the Iowa SIP revisions to the PSD program rules, specifically revising the definition of “subject to regulation.” This revision also adopts by reference the Federal PAL provision for greenhouse gases. (77 FR 41051).

We are publishing this direct final rule without a prior proposed rule because we view this as a noncontroversial action and anticipate no adverse comment. However, in the “Proposed Rules” section of this Federal Register, we are publishing a separate document that will serve as the proposed rule to approve the SIP revision if relevant adverse comments are received on this direct final rule. We will not institute a second comment period on this action. Any parties interested in commenting must do so at this time. For further information about commenting on this rule, see the ADDRESSES section of this document. If EPA receives adverse comment, we will publish a timely withdrawal in the Federal Register informing the public that this direct final rule will not take effect. We will address all public comments in any subsequent final rule based on the proposed rule.

Statutory and Executive Order Reviews

Under the CAA, the Administrator is required to approve a SIP submission that complies with the provisions of the Act and applicable Federal regulations. 42 U.S.C. 7410(k); 40 CFR 52.02(a). Thus, in reviewing SIP submissions, EPA's role is to approve state choices, provided that they meet the criteria of the CAA. Accordingly, this action merely approves state law as meeting Federal requirements and does not impose additional requirements beyond those imposed by state law. For that reason, this action:

• Is not a significant regulatory action subject to review by the Office of Management and Budget under Executive Orders 12866 (58 FR 51735, October 4, 1993) and 13563 (76 FR 3821, January 21, 2011);

• Does not impose an information collection burden under the provisions of the Paperwork Reduction Act (44 U.S.C. 3501 et seq.);

• Is certified as not having a significant economic impact on a substantial number of small entities under the Regulatory Flexibility Act (5 U.S.C. 601 et seq.);

• Does not contain any unfunded mandate or significantly or uniquely affect small governments, as described in the Unfunded Mandates Reform Act of 1995 (Pub. L. 104-4);

• Does not have Federalism implications as specified in Executive Order 13132 (64 FR 43255, August 10, 1999);

• Is not an economically significant regulatory action based on health or safety risks subject to Executive Order 13045 (62 FR 19885, April 23, 1997);

• Is not a significant regulatory action subject to Executive Order 13211 (66 FR 28355, May 22, 2001);

• Is not subject to requirements of Section 12(d) of the National Technology Transfer and Advancement Act of 1995 (15 U.S.C. 272 note) because application of those requirements would be inconsistent with the CAA; and

• Does not provide EPA with the discretionary authority to address, as appropriate, disproportionate human health or environmental effects, using practicable and legally permissible methods, under Executive Order 12898 (59 FR 7629, February 16, 1994).

The SIP is not approved to apply on any Indian reservation land or in any other area where EPA or an Indian tribe has demonstrated that a tribe has jurisdiction. In those areas of Indian country, the rule does not have tribal implications and will not impose substantial direct costs on tribal governments or preempt tribal law as specified by Executive Order 13175 (65 FR 67249, November 9, 2000).

The Congressional Review Act, 5 U.S.C. 801 et seq., as added by the Small Business Regulatory Enforcement Fairness Act of 1996, generally provides that before a rule may take effect, the agency promulgating the rule must submit a rule report, which includes a copy of the rule, to each House of the Congress and to the Comptroller General of the United States. EPA will submit a report containing this action and other required information to the U.S. Senate, the U.S. House of Representatives, and the Comptroller General of the United States prior to publication of the rule in the Federal Register. A major rule cannot take effect until 60 days after it is published in the Federal Register. This action is not a “major rule” as defined by 5 U.S.C. 804(2).

Under section 307(b)(1) of the CAA, petitions for judicial review of this action must be filed in the United States Court of Appeals for the appropriate circuit by August 16, 2016. Filing a petition for reconsideration by the Administrator of this final rule does not affect the finality of this action for the purposes of judicial review nor does it extend the time within which a petition for judicial review may be filed, and shall not postpone the effectiveness of such rule or action. This action may not be challenged later in proceedings to enforce its requirements. (See section 307(b)(2).)

List of Subjects in 40 CFR Part 52

Environmental protection, Air pollution control, Greenhouse gases, Incorporation by reference, Reporting and recordkeeping requirements.

Dated: June 3, 2016.
Mark Hague,
Regional Administrator, Region 7.

For the reasons stated in the preamble, EPA amends 40 CFR part 52 as set forth below:

PART 52—APPROVAL AND PROMULGATION OF IMPLEMENTATION PLANS

1. The authority citation for part 52 continues to read as follows:

Authority: 42 U.S.C. 7401 et seq.

Subpart Q—Iowa

2. In § 52.820, amend the table in paragraph (c) by revising the entries for 567-20.2, 567-21.1, 567-33.3, and 567-33.9 to read as follows:

§ 52.820 Identification of Plan.

* * * * *

(c) * * *

EPA-Approved Iowa Regulations
Iowa citation | Title | State effective date | EPA approval date | Explanation
Iowa Department of Natural Resources Environmental Protection Commission [567]
* * * * * * *
Chapter 20—Scope of Title—Definitions—Forms—Rules of Practice
* * * * * * *
567-20.2 | Definitions | 5/7/08 | 6/17/16 and [Insert Federal Register citation] | The definitions for anaerobic lagoon, odor, and odorous substance are not SIP approved.
| * * * * * * *
Chapter 21—Compliance
567-21.1 | Compliance Schedule | 5/7/08 | 6/17/16 and [Insert Federal Register citation] |
| * * * * * * *
Chapter 33—Special Regulations and Construction Permit Requirements for Major Stationary Sources—Prevention of Significant Deterioration (PSD) of Air Quality
| * * * * * * *
567-33.3 | Special Construction Permit Requirements for Major Stationary Sources in Areas Designated Attainment or Unclassified (PSD) | 7/17/13 | 6/17/16 and [Insert Federal Register citation] |
567-33.9 | Plantwide Applicability Limitations | 7/17/13 | 6/17/16 and [Insert Federal Register citation] |

* * * * *

[FR Doc. 2016-14282 Filed 6-16-16; 8:45 am]

BILLING CODE 6560-50-P